DEPARTMENT OF COMMERCE

National Oceanic and Atmospheric Administration

50 CFR Part 648

[Docket No. 140304191-4191-01]

RIN 0648-BE04

Fisheries of the Northeastern United States; Northeast Skate Complex Fishery; Notice of a Control Date for the Purpose of Limiting Entry to the Skate Fishery; Northeast Skate Complex Fishery Management Plan

AGENCY: National Marine Fisheries Service (NMFS), National Oceanic and Atmospheric Administration (NOAA), Commerce.

ACTION: Advance notice of proposed rulemaking (ANPR); request for comments.

SUMMARY: At the request of the New England Fishery Management Council, this notice announces a control date that may be applicable to limiting the number of participants in the skate fishery for uses other than bait. NMFS intends this notice to promote awareness of possible rulemaking, alert interested parties of potential eligibility criteria for future access, and discourage speculative entry into and/or investment in the skate fishery while the New England Fishery Management Council and NMFS consider if and how participation in the skate fishery should be controlled.

DATES: March 31, 2014, shall be known as the “control date” for the skate fishery for uses other than bait, and may be used as a reference date for future management measures related to the maintenance of a fishery with characteristics consistent with the Council's objectives and applicable Federal laws. Written comments must be received on or before April 30, 2014.

ADDRESSES: You may submit comments on this document, identified by NOAA-NMFS-2014-0038, by any of the following methods:

Electronic Submission: Submit all electronic public comments via the Federal e-Rulemaking Portal. Go to www.regulations.gov/#!docketDetail;D=NOAA-NMFS-2014-0038, click the “Comment Now!” icon, complete the required fields, and enter or attach your comments.

Mail: Submit written comments to John K. Bullard, Regional Administrator, National Marine Fisheries Service, 55 Great Republic Drive, Gloucester, MA 01930. Mark the outside of the envelope, “Comments on Skate Control Date.”

Instructions: Comments must be submitted by one of the above methods to ensure that the comments are received, documented, and considered by NMFS. We may not consider comments sent by any other method, to any other address or individual, or received after the end of the comment period. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). We accept attachments to electronic comments only in Microsoft Word or Excel, WordPerfect, or Adobe PDF file formats.

FOR FURTHER INFORMATION CONTACT: Carly Bari, Fisheries Management Specialist, 978-281-9224.

SUPPLEMENTARY INFORMATION: In 2003, NMFS implemented the Northeast Skate Fishery Management Plan (Skate FMP) to manage a complex of seven skate species in the Northeast Region: Winter (Leucoraja ocellata), little (L. erinacea), thorny (Amblyraja radiata), barndoor (Dipturus laevis), smooth (Malacoraja senta), clearnose (Raja eglanteria), and rosette (L. garmani). The FMP established biological reference points and overfishing definitions for each species, and other management measures designed to rebuild species that were considered overfished (barndoor and thorny). Regulations for the skate fishery are found at 50 CFR part 684, subpart O.

There are two distinct skate fisheries managed under the FMP: A skate wing fishery, which harvest the pectoral fins of large skates (primarily winter skate) for foreign and domestic food markets; and a bait skate fishery, which targets whole little skate to be sold primarily for bait in the American lobster fishery. A control date for the bait skate fishery was established on July 30, 2009 (74 FR 37978), in anticipation of the changes to the skate fishery as part of Amendment 3 to the Skate FMP. Control dates are used to establish a date after which those who enter a fishery may not be guaranteed access to that fishery if access to it is limited by regulation. Amendment 3 (75 FR 34049), was finalized on June 16, 2010, and established a rebuilding plan for smooth skate, implemented annual catch limits and accountability measures, and established new management measures for the bait skate fishery, including seasonal quotas and reduced possession limits.

On February 11, 2014, the New England Fishery Management Council (Council) requested that NMFS publish this control date for the Northeast skate complex fishery. This new control date will apply to participants in the skate fishery that do not fish for bait skates, but for skate wings. This new control date will also cover all other uses of skate, including food and any potential future use of a skate product. The number of skate permits has fluctuated over time, and the Council is concerned that conditions in other fisheries may shift effort onto skates before a limited entry program can be established. This Advance Notice of Proposed Rulemaking is intended to discourage new or speculative entry into the skate fishery while controlled access restrictions are considered by the Council. The date upon which this notice is published shall be known as the “control date,” which is intended to distinguish established participants from new or speculative entrants to the fishery.

This notification establishes March 31, 2014, as the new control date for potential use in determining historical or traditional participation in skate fishery. Establishing a control date does not commit the Council or NMFS to develop any particular management regime or criteria for participation in this fishery. In the future, the Council may choose a different control date, or a management program that does not make use of any control date. Any future action by NMFS will be taken pursuant to the Magnuson-Stevens Fishery Conservation and Management Act.

This notification also gives the public notice that interested participants should locate and preserve records that substantiate and verify their participation in the skate fishery.

This notification and control date do not impose any legal obligations, requirements, or expectation.

Authority: 16 U.S.C. 1801 et seq.

Dated: March 25, 2014.
Samuel D. Rauch III,
Deputy Assistant Administrator for Regulatory Programs, National Marine Fisheries Service.

[FR Doc. 2014-07120 Filed 3-28-14; 8:45 am]

BILLING CODE 3510-22-P